DEPARTMENT OF HEALTH AND HUMAN SERVICES

National Institutes of Health

National Institute of Diabetes and Digestive and Kidney Diseases; Amended Notice of Meeting

Notice is hereby given of a change in the meeting of the National Diabetes and Digestive and Kidney Diseases Advisory Council, September 07, 2022, 10:00 a.m. to September 08, 2022, 2:00 p.m., National Institutes of Health, Building 31, 31 Center Drive, Bethesda, MD 20892 which was published in the Federal Register on December 29, 2021, 304543.

The meeting notice is amended to change and adjust the format of the meeting from Regular to Video Assisted Meeting. The meeting is partially closed to the public.

Dated: August 18, 2022.
Miguelina Perez,
Program Analyst, Office of Federal Advisory Committee Policy.

[FR Doc. 2022-18135 Filed 8-22-22; 8:45 am]

BILLING CODE 4140-01-P